ENVIRONMENTAL PROTECTION AGENCY

[FRL-7489-9]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov, and please refer to the appropriate EPA Information Collection Request (ICR) Number.

SUPPLEMENTARY INFORMATION:

OMB Responses to Agency Clearance Requests

OMB Approvals

EPA ICR No. 0111.10; NESHAP for Asbestos; was approved 03/18/2003; in 40 CFR part 61, subpart M; OMB Number 2060-0101; expires 03/31/2006.

EPA ICR No. 0246.08; Contractor Cumulative Claim and Reconciliation; was approved 03/31/2003; OMB Number 2030-0016; expires 03/31/2006.

EPA ICR No. 1037.07; Oral and Written Purchase Orders; was approved 04/04/2003; OMB Number 2030-0007; expires 04/30/2006.

EPA ICR N0. 0663.08; NSPS for Beverage Can Surface Coating; was approved 04/04/2003; in 40 CFR part 60, subpart WW; OMB Number 2060-0001; expires 04/30/2003.

EPA ICR No.1127.07; NSPS for Hot Mix Asphalt Facilities; was approved 04/04/2003; in 40 CFR part 60, subpart I; OMB Number 2060-0083; expires 04/30/2006.

EPA ICR No. 1167.07; NSPS for Lime Manufacturing; was approved 04/04/2003; in 40 CFR part 60, subpart HH; OMB Number 2060-0063; expires 04/30/2006.

EPA ICR No. 1039.10; Monthly Progress Reports; was approved 03/19/2003; OMB Number 2030-0005; expires 03/31/2006.

EPA ICR No. 1055.07; NSPS for Kraft Pulp Mills; was approved 04/04/2003; in 40 CFR part 60, subpart BB; OMB Number 2060-0021; expires 04/30/2006.

EPA ICR No. 1130.07; NSPS for Grain Elevators; was approved 04/04/2003; in 40 CFR part 60, subpart DD; OMB Number 2060-0082; expires 04/30/2006.

EPA ICR No. 1363.12; Toxic Chemical Release Reporting, Recordkeeping, Supplier Notification and Petitions under Section 313 of the Emergency Planning and Community Right-to-Know Act (EPCRA); was approved 03/10/2003; in 40 CFR part 372; OMB Number 2070-0093; expires 10/31/2003.

EPA ICR No. 1704.06; Alternative Threshold for Low Annual Reportable Amounts; Toxic Chemical Release Reporting under Section 313 of the Emergency Planning and Community Right-to-Know Act (EPCRA); was approved 03/10/2003; in 40 CFR part 372; OMB Number 2070-0143; expires 10/31/2003.

EPA ICR No. 1938.02; National Emission Standards for Hazardous Air Pollutants from Municipal Solid Waste Landfills; was approved 04/04/2003; in 40 CFR part 63, subpart AAAA; OMB Number 2060-0505; expires 04/30/2006.

EPA ICR No. 2059.01; Tribal Lands Hazardous Waste Sites Census; was approved 03/18/2003; in 40 CFR 66.802 and 40 CFR 66.809; OMB Number 2050-0189; expires 03/31/2006.

EPA ICR No. 2103.01; Title IV of the Public Health Security and Bioterriorism Preparedness and Response Act of 2002: Drinking Water Security and Safety; was approved 03/31/2003; in pub. law 107-188; OMB Number 2040-0253; expires 09/30/2003.

EPA ICR No. 2076.01; National Waste Minimization Partnership Program; was approved 04/10/2003; OMB Number 2050-0190; expires 04/30/2006.

EPA ICR No. 0275.08; Preaward Compliance Review Report for All Applicants Requesting Federal Financial Assistance; was approved 04/11/2003; OMB Number 2090-0014; expires 04/30/2006.

Short Term Extensions

EPA ICR No. 1912.01; Information Collection Request; National Primary Drinking Water Regulation for Lead and Copper (Final Rule); OMB Number 2040-0210; on 03/24/2003 OMB extended the expiration date through 06/30/2003.

EPA ICR No. 1727.02; Evaluation of the Burden of Waterborne Disease Within Communities in the United States; OMB 2080-0050; on 04/08/2003 OMB extended the expiration date through 07/31/2003.

Comment Filed

EPA ICR No. 2102.01; background checks for contractors performing services on-site for EPA; on 04/02/2003 OMB filed a comment.

EPA ICR No. 1060.11; NSPS for Steel Plants: Electric Arc Furnaces and Decarburization Vessels (Proposed rule amendment); in 40 CFR part 60, subparts AA and AAa; on 04/04/2003 OMB filed a comment.

EPA ICR No. 2045.01; National Emission Standards for Hazardous Air Pollutants for Automobile and Light-duty Truck Surface Coating (Proposed Rule); in 40 CFR part 63, subpart IIII; on 04/04/2003 OMB filed a comment.

EPA ICR No. 2072.01; NESHAP for Lime Manufacturing Plants (Proposed Rule); in 40 CFR 63.7130, 63.7100, 63.7131, and 63.7132; on 04/04/2003 OMB filed a comment.

Correction

This is to correct EPA ICR No. 0619.09, to EPA ICR No. 0161.09, Foreign Purchaser Acknowledgment Statement of Unregistered Pesticides; OMB No. 2070-0027; published on 01/14/2003.

Transfer

EPA ICR No. 2057.01; Eliciting Risk Tradeoffs for Valuing Fatal Cancer Risks; has been changed from OMB No. 2060-0502 to OMB No. 2090-0022 effective 04/02/2003.

Dated: April 23, 2003.
Richard T. Westlund,
Acting Director, Collection Strategies Division.

[FR Doc. 03-10652 Filed 4-29-03; 8:45 am]

BILLING CODE 6560-50-P